FEDERAL MARITIME COMMISSION

Sunshine Act; Notice of Meeting

Agency Holding The Meeting: Federal Maritime Commission.

Time and Date: November 20, 2008—10 a.m.

Place: 800 North Capitol Street, NW., First Floor Hearing Room, Washington, DC.

Status: A portion of the meeting will be in Open Session and the remainder of the meeting will be in Closed Session.

Matters to be Considered:

Open Session

(1) Semiannual IG Report to the Congress.

(2) FY 2008 Competitive Sourcing Efforts.

(3) FMC Agreement No. 201197, SSA Terminals (Oakland) Cooperative Working Agreement

(4) Docket No. 06-01—Worldwide Relocations, Inc., All-in-One Shipping, Inc., Boston Logistics, Corp., Around the World Shipping, Inc., et al.

Closed Session

(1) Internal Administrative Practices and Personnel Matters.

(2) Docket No. 06-06—EuroUSA Shipping Inc., Tober Group, Inc., and Container Innovations, Inc.,—Possible Violations of Section 10 of the Shipping Act of 1984 and the Commission's Regulations at 46 CFR 515.27.

(3) Federal Maritime Commission v. City of Los Angeles, California; Harbor Department of the City of Los Angeles; Board of Harbor Commissioners of the City of Los Angeles; City of Long Beach, California; Harbor Department of the City of Long Beach; Board of Harbor Commissioners of the City of Long Beach—Complaint for an Injunction Pursuant to section 6(h) of the Shipping Act of 1984, 46 U.S.C. 41307—Update on Status of the Proceeding.

FOR FURTHER INFORMATION CONTACT: Karen V. Gregory, Secretary, (202) 523-5725.

Karen V. Gregory,
Secretary.

[FR Doc. E8-27384 Filed 11-13-08; 4:15 pm]

BILLING CODE 6730-01-P